DEPARTMENT OF TRANSPORTATION

Federal Aviation Administration

Office of Commercial Space Transportation; Notice of Availability and Request for Comment on the Draft Supplemental Environmental Assessment (Draft SEA) to the September 2008 Environmental Assessment for Space Florida Launch Site Operator License, Brevard County, FL

AGENCY: The Federal Aviation Administration (FAA), lead Federal agency and United States Air Force, cooperating agency

ACTION: Notice of availability, notice of public comment period, and request for comment.

SUMMARY: In accordance with National Environmental Policy Act regulations of 1969, as amended (NEPA) (42 U.S.C. 4321 et seq.), Council on Environmental Quality NEPA implementing regulations (40 CFR parts 1500-1508), and FAA Order 1050.1E, Change 1, the FAA is announcing the availability of and requesting comments on the Draft Supplemental Environmental Assessment (SEA) to the September 2008 Environmental Assessment for Space Florida Launch Site Operator License. The Draft SEA was prepared in response to an application for a Launch Site Operator License from Space Florida. Under the Proposed Action, the FAA would issue a Launch Site Operator License to Space Florida to operate a commercial space launch site at Launch Complex 36 (LC-36) and LC-46 at Cape Canaveral Air Force Station (CCAFS) in Brevard County, Florida. The license would allow Space Florida to support vertical launches of both solid and liquid propellant launch vehicles from LC-36 and LC-46. LC-46 is the easternmost launch complex at CCAFS, located at the tip of Cape Canaveral, and LC-36 is located in the east-central portion of CCAFS. The Draft SEA addresses the potential environmental impacts of issuing a Launch Site Operator License for the Proposed Action and the No Action Alternative.

The FAA has posted the Draft SEA on the FAA Office of Commercial Space Transportation Web site at http://www.faa.gov/about/office_org/headquarters_offices/ast/. In addition, copies of the Draft SEA were sent to persons and agencies on the distribution list (found in Chapter 8 of the Draft SEA). A paper copy and a CD version of the Draft SEA may be reviewed for comment during regular business hours at the following locations:

Titusville Public Library, 2121 S. Hopkins Ave., Titusville, FL 32780.

Cocoa Beach Public Library, 550 North Brevard Ave, Cocoa Beach, FL 32931.

Cape Canaveral Public Library, 201 Polk Avenue, Cape Canaveral, FL 32920.

Merritt Island Public Library, 1195 North Courtenay Parkway, Merritt Island, FL 32953.

DATES: The public comment period for the Draft SEA begins with the issuance of this Notice of Availability. The FAA encourages all interested parties to provide comments concerning the scope and content of the Draft SEA. To ensure that all comments can be addressed in the Final SEA, comments on the draft must be received by the FAA no later than April 27, 2010. Comments should be as specific as possible and address the analysis of potential environmental impacts and the adequacy of the proposed action or merits of alternatives and the mitigation being considered. Reviewers should organize their comments to be meaningful and inform the FAA of their interests and concerns by quoting or providing specific references to the text of the Draft SEA. Matters that could have been raised with specificity during the comment period on the Draft SEA may not be considered if they are raised for the first time later in the decision process. This commenting procedure is intended to ensure that substantive comments and concerns are made available to the FAA in a timely manner so that the FAA has an opportunity to address them.

ADDRESSES: Please submit comments in writing to: FAA Space Florida Supplemental EA, c/o ICF International, 9300 Lee Highway, Fairfax, VA 22031. Comments may also be submitted via e-mail to SpaceFLSEA@icfi.com. For questions or additional information on the Draft SEA, please contact Mr. Daniel Czelusniak, FAA Environmental Specialist, at (202) 267-5924 or Daniel.Czelusniak@faa.gov.

Additional Information

Under the Proposed Action, the FAA would issue a Launch Site Operator License to Space Florida to operate LC-36 and LC-46 as a commercial space launch site for vertical launches of both solid and liquid propellant launch vehicles. The proposed activities at LC-46 remain consistent with those analyzed in the 2008 EA which analyzed the potential environmental impacts of the FAA issuing a Launch Site Operator License to Space Florida to operate a commercial space launch site at LC-46. The 2008 EA analyzed the operation of several types of vertical launch vehicles from LC-46, including Athena-1 and Athena-2, Minotaur, Taurus, Falcon 1, Alliant Techsystems small launch vehicles, and other Castor® 120-based or Minuteman-derivative booster vehicles. The Proposed Action also includes construction and operation activities to redevelop LC-36 into commercial space launch site. The Draft SEA expands on the analysis provided in the 2008 EA to include an analysis of the potential environmental impacts of the construction and operation activities associated with the redevelopment of LC-36 into a commercial space launch site. Redeveloping LC-36 into a multi-use commercial space launch site involves construction of facilities to launch a Generic Launch Vehicle (GLV), which is a conceptual (or “surrogate”) liquid propellant medium class launch vehicle with a solid propellant second stage, and a bipropellant third stage, used for the purposes of the environmental review. Redevelopment activities at LC-36 would include building access roads; erecting a security fence; reconstituting several existing facilities; constructing an elevated launch deck, associated flame ducts, water storage tank, and water deluge containment pool; and installing electrical, communication, and air systems. Redevelopment would occur in phases dictated by costs and schedule, and facility construction or modifications would take place only on previously disturbed ground. The only alternative to the Proposed Action is the No Action Alternative. Under this alternative the FAA would not issue a Launch Site Operator License to Space Florida for commercial launches from LC-36 and LC-46 at CCAFS.

Resource areas were considered to provide a context for understanding and assessing the potential environmental effects of the Proposed Action, with attention focused on key issues. The resource areas considered in the Draft SEA included air quality; biological resources (terrestrial vegetation and wildlife, marine species, and protected species); compatible land use (land use, light emissions, visual resources, and coastal resources); cultural resources and Section 4(f) properties; hazardous materials, solid waste, and pollution prevention; noise; socioeconomic resources; and water resources (surface water, groundwater, floodplains, and wetlands). Potential cumulative impacts of the Proposed Action are also addressed in the Draft SEA.

FOR FURTHER INFORMATION CONTACT: Mr. Daniel Czelusniak, Environmental Specialist, Federal Aviation Administration, 800 Independence Avenue, SW., Suite 331, Washington, DC 20591, by e-mail at Daniel.Czelusniak@faa.gov, or by phone at (202) 267-5924.

Issued in Washington, DC on: March 24, 2010.
Michael McElligott,
Manager, Space Systems Development Division.

[FR Doc. 2010-7129 Filed 3-31-10; 8:45 am]

BILLING CODE 4310-13-P